NATIONAL AERONAUTICS AND SPACE ADMINISTRATION

[Notice (01-122)]

Aerospace Safety Advisory Panel (ASAP); Meeting

AGENCY: National Aeronautics and Space Administration.

ACTION: Notice of meeting.

SUMMARY: In accordance with the Federal Advisory Committee Act, Pub. L. 92-463, as amended, the National Aeronautics and Space Administration announces a forthcoming meeting of the Aerospace Safety Advisory Panel.

DATES: Friday, October 19, 2001, 3:45 p.m.-5 p.m. Central Standard Time.

ADDRESSES: Hilton Houston NASA Clear Lake, 3000 NASA Road 1, Marina Cove Meeting Room, Houston, TX 77058.

FOR FURTHER INFORMATION CONTACT: Mr. David M. Lengyel, Aerospace Safety Advisory Panel Executive Director, Code Q-1, National Aeronautics and Space Administration, Washington, DC 20546, 202/358-0391, if you plan to attend.

SUPPLEMENTARY INFORMATION: This meeting will be conducted via telecon with Panel members and consultants at the Johnson Space Center and public participants at the Hilton Houston NASA Clear Lake. This meeting will be open to the public up to the seating capacity of the room (18). The agenda for the meeting is to conduct deliberations on Calendar Year 2001 fact-finding activities and trip reports in preparation for the drafting of the Panel's Annual Report.

It is imperative that the meeting be held on this date to accommodate the scheduling priorities of the key participants. Visitors will be requested to sign a visitors register.

Beth M. McCormick,
Advisory Committee Management Officer, National Aeronautics and Space Administration.

[FR Doc. 01-26051 Filed 10-16-01; 8:45 am]

BILLING CODE 7510-01-P